DEPARTMENT OF ENERGY

Federal Energy Regulatory Commission

[Docket No. EL00-95-012]

San Diego Gas & Electric Company, Complainant v. Sellers of Energy and Ancillary Services Into Markets Operated by the California Independent System Operator and the California Power Exchange, Respondents; Notice of Opportunity for Comment on Staff Recommendation on Prospective Market Monitoring and Mitigation for the California Wholesale Electric Market

March 9, 2001.

Take notice that the Commission staff has prepared a recommendation for prospective market monitoring and mitigation for the California wholesale electric market. The recommendations are those of the staff of the Federal Energy Regulatory Commission and do not necessarily reflect the views of the Commission or any of its Commissioners. Parties in this proceeding may file comments on the staff recommendation by March 22, 2001. Documents previously filed in Docket No. EL00-95-000, et al., need not be refiled in this sub-docket and no additional petitions for intervention are required for parties in Docket No. EL00-95-000, et al., to participate in this sub-docket.

Copies of this document are available for public inspection in the Public Reference Room of the Federal Energy Regulatory Commission, 888 First Street, NE., Washington, DC 20426. This document may be viewed on the web at http://www.ferc.fed.us/online/rims.htm or http://www.ferc.fed.us/electric/bulkpower.htm (call 202-208-2222 for assistance). Comments may be filed electronically via the internet in lieu of paper. See 18 CFR 385.2001(a)(1)(iii) and the instructions on the Commission's web site at http://www.ferc.fed.us/efi/doorbell.htm.

David P. Boergers,
Secretary.

[FR Doc. 01-6420 Filed 3-14-01; 8:45 am]

BILLING CODE 6717-01-M